DEPARTMENT OF TRANSPORTATION

Federal Aviation Administration

Land Release for Dunkirk Airport

AGENCY: Federal Aviation Administration, DOT.

ACTION: Notice, request for public comment.

SUMMARY: The Federal Aviation Administration is requesting public comment on the Dunkirk Airport (DKK), Dunkirk, New York, Notice of Proposed Release from Aeronautical Use of approximately 2.666 +/− acres of airport property, to allow for non-aeronautical development.

The 2.666 +/− acres of land are proposed to be transferred to the Town of Sheridan for use as public right-of-way for the relocation of Newell Road. The released lands will be exchanged for the 2.006 acres +/− of the existing Newell Road right-of-way currently owned by the Town of Sheridan.

Documents reflecting the Sponsor's request are available, by appointment only, for inspection at the Office of the Chautauqua County Executive and the FAA New York Airport District Office.

DATES: Comments must be received by June 8, 2012.

ADDRESSES: Comments on this application may be mailed or delivered to the FAA at the following address: Otto N. Suriani, Acting Manager, FAA New York Airports District Office, 600 Old Country Road, Suite 446, Garden City, New York 11530. In addition, a copy of any comments submitted to the FAA must be mailed or delivered to Mr. Gregory J. Edwards, County Executive, Chautauqua County, at the following address: 3 North Erie Street, Mayville, NY 14757.

FOR FURTHER INFORMATION CONTACT: Otto N. Suriani, Acting Manager, New York Airports District Office, 600 Old Country Road, Suite 446, Garden City, New York 11530; telephone (516) 227-3809; FAX (516) 227-3813; email Otto.Suriani@faa.gov.

SUPPLEMENTARY INFORMATION: Section 125 of the Wendell H. Ford Aviation Investment and Reform Act for the 1st Century (AIR21) requires the FAA to provide an opportunity for public notice and comment before the Secretary may waive a Sponsor's Federal obligation to use certain airport land for aeronautical use.

Issued in Garden City, New York on May 3, 2012.
Otto N. Suriani,
Acting Manager, New York, Airports District Office, Eastern Region.

[FR Doc. 2012-11212 Filed 5-8-12; 8:45 am]

BILLING CODE 4910-13-P